DEPARTMENT OF COMMERCE

National Oceanic and Atmospheric Administration

50 CFR Part 679

[Docket No. 230224-0053; RTID 0648-XD509]

Fisheries of the Exclusive Economic Zone Off Alaska; Reallocation of Pacific Cod in the Western Regulatory Area of the Gulf of Alaska

AGENCY: National Marine Fisheries Service (NMFS), National Oceanic and Atmospheric Administration (NOAA), Commerce.

ACTION: Temporary rule; reallocation.

SUMMARY: NMFS is reallocating the projected unused amount of Pacific cod from catcher vessels using trawl gear and vessels using pot gear to catcher vessels using hook-and-line gear and catcher/processors using hook-and-line gear in the Western Regulatory Area of the Gulf of Alaska (GOA). This action is necessary to allow the 2023 total allowable catch (TAC) of Pacific cod to be harvested.

DATES: Effective November 1, 2023, through 2400 hours, Alaska local time (A.l.t.), December 31, 2023.

FOR FURTHER INFORMATION CONTACT: Adam Zaleski, 907-586-7228.

SUPPLEMENTARY INFORMATION: NMFS manages the groundfish fishery in the GOA according to the Fishery Management Plan for Groundfish of the Gulf of Alaska (FMP) prepared by the North Pacific Fishery Management Council under authority of the Magnuson-Stevens Fishery Conservation and Management Act (Magnuson-Stevens Act). Regulations governing fishing by U.S. vessels in accordance with the FMP appear at subpart H of 50 CFR parts 600 and 679.

The 2023 Pacific cod TAC specified for catcher vessels using trawl gear in the Western Regulatory Area of the GOA is 1,956 metric tons (mt), as established by the final 2023 and 2024 harvest specifications for groundfish in the GOA (88 FR 13238, March 2, 2023).

The 2023 Pacific cod TAC specified for vessels using pot gear in the Western Regulatory Area of the GOA is 1,936 mt, as established by the final 2023 and 2024 harvest specifications for groundfish in the GOA (88 FR 13238, March 2, 2023).

The 2023 Pacific cod TAC specified for catcher vessels using hook-and-line gear in the Western Regulatory Area of the GOA is 71 mt, as established by the final 2023 and 2024 harvest specifications for groundfish in the GOA (88 FR 13238, March 2, 2023).

The 2023 Pacific cod TAC specified for catcher/processors using hook-and-line gear in the Western Regulatory Area of the GOA is 1,009 mt, as established by the final 2023 and 2024 harvest specifications for groundfish in the GOA (88 FR 13238, March 2, 2023).

The Administrator, Alaska Region, NMFS, (Regional Administrator) has determined that catcher vessels using trawl gear will not be able to harvest 430 mt of the 2023 Pacific cod TAC allocated to those vessels under § 679.20(a)(12)(i)(A)(3), and vessels using pot gear will not be able to harvest 220 mt of the 2023 Pacific cod TAC allocated to those vessels under § 679.20(a)(12)(i)(A)(5).

Therefore, in accordance with § 679.20(a)(12)(ii)(B), NMFS apportions 430 mt of Pacific cod from catcher vessels using trawl gear to the annual amount specified for catcher/processors using hook-and-line gear, and 220 mt of Pacific cod from vessels using pot gear to the annual amount specified for catcher vessels using hook-and-line gear.

The harvest specifications for 2023 Pacific cod included in the final 2023 and 2024 harvest specifications for groundfish in the Western Regulatory Area of the GOA (88 FR 13238, March 2, 2023) is revised as follows: 1,526 mt to catcher vessels using trawl gear, 1,716 mt to vessels using pot gear, 291 mt to catcher vessels using hook-and-line gear, and 1,439 mt to catcher/processors using hook-and-line gear.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest. This requirement is impracticable and contrary to the public interest as it would prevent NMFS from responding to the most recent fisheries data in a timely fashion and would allow for harvests that exceed the originally specified apportionment of the Pacific cod TAC. NMFS was unable to publish a notice providing time for public comment because the most recent, relevant data only became available as of October 31, 2023.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: November 1, 2023.
Jennifer M. Wallace,
Acting Director, Office of Sustainable Fisheries, National Marine Fisheries Service.

[FR Doc. 2023-24461 Filed 11-1-23; 4:15 pm]

BILLING CODE 3510-22-P